DEPARTMENT OF VETERANS AFFAIRS

Genomic Medicine Program Advisory Committee; Notice of Meeting

The Department of Veterans Affairs (VA) gives notice under Public Law 92-463 (Federal Advisory Committee Act) that the Genomic Medicine Program Advisory Committee will meet on November 10, 2009, at the Hamilton Crowne Plaza, 1001 14th Street NW., Washington, DC, from 8:30 a.m. to 5 p.m. The meeting is open to the public.

The purpose of the Committee is to provide advice and make recommendations to the Secretary of Veterans Affairs on using genetic information to optimize medical care of Veterans and to enhance development of tests and treatments for diseases particularly relevant to Veterans.

The Committee will receive program updates including planned responses to recommendations, and will be asked to continue to provide insight into optimal ways for VA to incorporate genomic information into its health care program while applying appropriate ethical oversight and protecting the privacy of Veterans. The meeting focus will include program updates, including a genetics education tool for health care providers and upcoming genomics research initiatives, as well as presentations on the Veterans' survey results and clinical application of pharmacogenetics.

Time will be allocated for receiving public comments at 3:30 p.m. Public comments will be limited to five minutes each. Individuals wishing to make oral statements before the Committee will be accommodated on a first-come, first-served basis. Individuals who speak are invited to submit 1-2 page summaries of their comments at the time of the meeting for inclusion in the official meeting record.

The public may submit written statements for the Committee's review to Dr. Sumitra Muralidhar, Designated Federal Officer, at Department of Veterans Affairs, Veterans Health Administration (121E), 810 Vermont Avenue, NW., Washington, DC 20420, or at sumitra.muralidhar@va.gov. Any member of the public wishing to attend the meeting or seeking additional information should contact Dr. Muralidhar at (202) 461-1669.

Dated: October 15, 2009.
By Direction of the Secretary.
Vivian Drake,
Acting Committee Management Officer.

[FR Doc. E9-25367 Filed 10-20-09; 8:45 am]

BILLING CODE P